DEPARTMENT OF AGRICULTURE

U.S. Codex Office

Codex Alimentarius Commission: Meeting of the Codex Committee on Contaminants in Foods

AGENCY: U.S. Codex Office, Department of Agriculture.

ACTION: Notice of public meeting and request for comments.

SUMMARY: The U.S Codex Office is sponsoring a public meeting on March 23, 2020. The objective of the public meeting is to provide information and receive public comments on agenda items and draft United States (U.S.) positions to be discussed at the 14th Session of the Codex Committee on Contaminants in Foods (CCCF) of the Codex Alimentarius Commission, in Utrecht, the Netherlands, April 20-24, 2020. The U.S. Manager for Codex Alimentarius and the Under Secretary, Office of Trade and Foreign Agricultural Affairs, recognize the importance of providing interested parties the opportunity to obtain background information on the 14th Session of the CCCF and to address items on the agenda.

DATES: The public meeting is scheduled for March 23, 2020, from 1:00 p.m. to 4:00 p.m. EST.

ADDRESSES: The public meeting will take place in Meeting Room 1A-001 at the Center for Food Safety and Applied Nutrition, U.S. Food and Drug Administration, 5001 Campus Drive, HFS-009, College Park, MD 20740-3835. Documents related to the 14th Session of the CCCF will be accessible via the internet at the following address: http://www.codexalimentarius.org/meetings-reports/en. Dr. Lauren Posnick Robin, U.S. Delegate to the 14th Session of the CCCF, invites U.S. interested parties to submit their comments electronically to the following email address: henry.kim@fda.hhs.gov.

Call-In-Number: If you wish to participate in the public meeting for the 14th Session of the CCCF by conference call, please register in advance by emailing henry.kim@fda.hhs.gov. To call in, you may use the call-in-number: 1-877-465-7975 and participant code 909 104 288. You may also join by Webex, using the link: Join Webex meeting; meeting number/access code: 909 104 288; and meeting password: mFuGm4Uv.

Registration: Attendees may register to attend the public meeting by emailing henry.kim@fda.hhs.gov by March 16, 2020. Early registration is encouraged because it will expedite entry into the building. The meeting will take place in a Federal building. Attendees should bring photo identification and plan for adequate time to pass through the security screening systems. Attendees who are not able to attend the meeting in person, but who wish to participate, may do so by phone or Web, as discussed above.

FOR FURTHER INFORMATION CONTACT: Henry Kim, Ph.D., FDA, at henry.kim@fda.hhs.gov, or the U.S. Codex office at uscodex@usda.gov, (202) 205-7760.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The CCCF is responsible for

(a) Establishing or endorsing permitted maximum levels and where necessary, revising existing guideline levels, for contaminants and naturally occurring toxicants in food and feed;

(b) Preparing priority lists of contaminants and naturally occurring toxicants for risk assessment by the joint FAO/WHO Expert Committee on Food Additives (JEFCA).

(c) Considering and elaborating methods of analysis and sampling for the determination of contaminants and naturally occurring toxicants in food and feed;

(d) Considering and elaborating standards or codes of practice for related subjects; and

(e) Considering other matters assigned to it by the Commission in relation to contaminants and naturally occurring toxicants in food and feed.

The Committee is chaired by the Netherlands.

Issues To Be Discussed at the Public Meeting

The following items on the Agenda for the 14th Session of the CCCF will be discussed during the public meeting:

• Matters referred to CCCF by the Codex Alimentarius Commission and/or its subsidiary bodies

• Matters of interest arising from FAO and WHO (including JECFA)

• Matters of interest arising from other international organizations

• Draft maximum levels (MLs) for cadmium for chocolates containing or declaring <30% total cocoa solids on a dry matter basis

• Proposed draft MLs for cadmium in chocolate and chocolate products containing or declaring ≥30% to <50% total cocoa solids on a dry matter basis; and cocoa powder (100% total cocoa solids on a dry matter basis)

• Proposed draft Code of Practice (COP) for the prevention and reduction of cadmium contamination in cocoa beans

• Proposed draft MLs for lead in selected commodities for inclusion in the GSCTFF (CXC 193-1995)

• Proposed draft revision of the Code of Practice for the prevention and reduction of lead contamination in foods (CXC 56-2004)

• Proposed draft MLs for total aflatoxins in certain cereals and cereal-based products including foods for infants and young children

• MLs for methylmercury in additional fish species

• MLs for HCN in cassava and cassava-based products and COP for the prevention and reduction of mycotoxin contamination in cassava and cassava-based products

• MLs for cadmium and lead in quinoa

• Radioactivity in feed and food (including drinking water) in normal circumstances

• General guidance on data analysis for ML development and for improved data collection

• Approach to identify the need for revision of standards and related text developed by CCCF

• Forward work-plan for CCCF

○ Review of staple food-contaminant combinations for future work of CCCF

○ Project plan for the evaluation of implementation of COPs of CCCF

• Priority list of contaminants and naturally occurring toxicants proposed for evaluation by JECFA

• Other business and future work

Public Meeting

At the public meeting, draft U.S. positions on the agenda items will be described and discussed, and attendees will have the opportunity to pose questions and offer comments. Written comments may be offered at the meeting or sent to Henry Kim at henry.kim@fda.hhs.gov.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How to File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on February 20, 2020.
Mary Lowe,
U.S. Manager for Codex Alimentarius.

[FR Doc. 2020-03823 Filed 2-25-20; 8:45 am]

BILLING CODE P